DEPARTMENT OF ENERGY

Federal Energy Regulatory Commission

[Docket No. ER00-1575-000]

Mississippi Power Company; Notice of Filing

February 16, 2000.

Take notice that on February 8, 2000, Mississippi Power Company (MPC), filed proposed changes to Rates Schedule MRA-18 of FERC Electric Tariff, First Revised Volume No. 1 (Tariff) of Mississippi Power Company. the proposed changes will provide a rate decrease to all customers under the Tariff. In addition, the filing proposes to revise the provisions of the Tariff for terminating service at any given delivery point and provides for a moratorium on unilateral changes in rates under the Tariff until January 1, 2002.

MPC has requested an effective date of January 1, 2000. The filing also contains corresponding Settlement Agreement and Statement of Consents for each of the customers served under the Tariff.

The rate decrease is being filed as a result of agreements reached between each of the customers under the Tariff and MPC, which agreements are set forth in the separate Settlement Agreement and Statement of Consents between each customer and MPC.

Copies of the filing were provided to each of the customers under the Tariff, to the Mississippi Public Service Commission, and to the Mississippi Public Utilities Staff.

Any person desiring to be heard or to protest such filing should file a motion to intervene or protest with the Federal Energy Regulatory Commission, 888 First Street, NE., Washington, DC 20426, in accordance with Rules 211 and 214 of the Commission's Rules of Practice and Procedure (18 CFR 385.211 and 385.214). all such motions and protests should be filed on or before February 29, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-4459 Filed 2-24-00; 8:45 am]

BILLING CODE 6717-01-M